FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than February 24, 2021.

B. Federal Reserve Bank of Kansas City (Dennis Denney, Assistant Vice President) 1 Memorial Drive, Kansas City, Missouri 64198-0001:

1. Joseph Tutera, Mission Hills, Kansas; individually and as a member of the Tutera Family Group, a group acting in concert, to retain voting shares of Central Bancshares of Kansas City (Bancshares) and thereby indirectly retain voting shares of Central Bank of Kansas City, both of Kansas City, Missouri. Additionally, Marian Olander Tutera, Mission Hills, Kansas; John “David” Cunningham, Prairie Village, Kansas; Anthony Michael Mendolia, Constance Marie Mendolia 2009 Irrevocable Trust dated 12-29-09, Joseph Tutera, Trustee, John David Cunningham, Trust Protector; Mary Margaret Cunningham 2009 Irrevocable Trust dated 12-29-09, Joseph Tutera, Trustee, Marian Olander Tutera, Trust Protector; Joseph C. Tutera 2009 Irrevocable Trust dated 12-29-09, Joseph Tutera, Trustee, John David Cunningham, Trust Protector, Laura Cirese Tutera 2009 Trust dated 10-8-09, Hanna Marie Tutera 2009 Trust dated 10-8-09, Dominic Frank Tutera 2009 Trust dated 10-8-09, Dominic Frank Tutera 2009 Trust dated 10-8-09, Joseph Charles Tutera Jr. 2009 Trust dated 10-8-09, David Cunningham, Trustee, Anthony Mendolia, Trust Protector, all of Kansas City, Missouri; to join the Tutera Family Group and retain voting shares of Bancshares and thereby indirectly retain voting shares of Central Bank of Kansas City.

Board of Governors of the Federal Reserve System, February 4, 2021.
Michele Taylor Fennell,
Deputy Associate Secretary of the Board.

[FR Doc. 2021-02670 Filed 2-8-21; 8:45 am]

BILLING CODE